DEPARTMENT OF THE INTERIOR

[Fund 17XD4523WK; Functional Area: DWK000000.000000; Funds Center: DS10100000]

Secretary's Indian Water Rights Office; Proposed New Information Collection: OMB Control Number 1094-ONEW, Indian Water Rights Settlements: Economic Analysis

AGENCY: Office of the Secretary, Secretary's Indian Water Rights Office.

ACTION: 30-day notice and request for comments.

SUMMARY: The Secretary's Indian Water Rights Office (SIWRO) has submitted an information collection request to the Office of Management and Budget (OMB) to complete a new information collection to identify and track social and economic changes that occur as a result of the implementation of enacted Indian water rights settlements (IWRS).

DATES: The OMB is required to respond to this information collection request within 60 days but may respond after 30 days. For maximum consideration, written comments should be received on or before May 31, 2017.

ADDRESSES: Please submit comments by either fax (202) 395-5806 or email (OIRA_Submission@omb.eop.gov) directly to the Office of Information and Regulatory Affairs, OMB, Attention: Desk Officer for the Department of the Interior. Additionally, please provide a copy of your comments to Rachel Brown, U.S. Department of the Interior, 1849 C Street NW., MS 7069-MIB, Washington, DC 20240, fax 202-208-6970, or by electronic mail to Rebrown@usbr.gov. Please mention that your comments concern the Indian Water Rights Settlements: Economic Analysis, OMB Control Number 1093-0NEW.

FOR FURTHER INFORMATION CONTACT: To request a copy of the information collection request, any explanatory information and related forms, see the contact information provided in the ADDRESSES section above.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the SIWRO published a 60-day notice in the Federal Register on October 17, 2016 (81 FR 71528), and the comment period ended December 16, 2016. The SIWRO received no comments. The SIWRO now requests comments on the following subjects:

1. The following are examples of the types of questions that SIWRO may use in the information collection: Was the infrastructure included in the agreement put in place; is the infrastructure functioning as expected; if water leasing is allowed for under the agreement is such leasing taking place, and with whom; what are the perceived benefits to the tribal nations, local communities and other parties to the settlement; to what extent have economic and social benefits been realized from any infrastructure or other arrangements or agreements implemented pursuant to the settlement; are the benefits of the actions taken under the settlement expected to continue in the future; have there been any unintended consequences of the actions taken under the settlement. If commenters would like specific questions asked during the targeted interviews, SIWRO encourages that those questions be submitted as comments on this ICR.

2. Whether the collection of information is necessary for the proper functioning of the SIWRO, including whether the information will have practical utility;

3. The accuracy of the SIWRO's estimate of the burden of collecting the information, including the validity of the methodology and assumptions used;

4. The quality, utility and clarity of the information to be collected; and

5. How to minimize the information collection burden on those who are to respond, including the use of appropriate automated, electronic, mechanical, or other forms of information technology.

Please send comments as directed under ADDRESSES and DATES. Please refer to OMB control number 1093-ONEW in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Indian Water Rights Settlements: Economic Analysis.

Form: None.

OMB Control Number: None.

Abstract: The Secretary's Indian Water Rights Office (SIWRO) is tasked with overseeing and coordinating the Federal Government's Indian water rights settlement program and is undertaking a study on the economic outcomes associated with Indian water rights settlements. The purpose of the study is to identify and track social and economic changes that occur as a result of the implementation of enacted settlements. The Office of Indian Water Rights is located within the Secretary's Office. The Office leads, coordinates, and manages the Department's Indian water rights settlement program (109 Departmental Manual 1.3.E(2)).

Indian reserved water rights are vested property rights for which the United States has a trust responsibility, with the United States holding legal title to such water in trust for the benefit of Indian tribes. Federal policy supports the resolution of disputes regarding Indian water rights through negotiated settlements. Settlement of Indian water rights disputes breaks down barriers and helps create conditions that improve water resources management by providing certainty as to the rights of all water users who are parties to the disputes. At a time of increasing competition for Federal funds, it is important to quantify and describe the economic impacts and net benefits of the implementation of enacted Indian water rights settlements.

Frequency: One time.

Description of Respondents: State, Local & Tribal Governments as well as some Private Sector entities.

Estimated Number of Responses Annually: 60.

Estimated Reporting and Recordkeeping “Hour” Burden Annually: 164.

Estimated Reporting and Recordkeeping “Non-Hour Cost” Burden Annually: None.

The estimated burdens are itemized in the following table:

A. Type of response | B. Number of responses | C. Hours per response | D. Total hours (column B × column C)
Interview and data sharing | 60 | 2.73 | 164

Jeffrey M. Parrillo,
Department of the Interior, Departmental Information Collection Clearance Lead.

[FR Doc. 2017-08747 Filed 4-28-17; 8:45 am]

BILLING CODE 4334-63P